FEDERAL MINE SAFETY AND HEALTH REVIEW COMMISSION

Sunshine Act Notice; Correction

AGENCY: Federal Mine Safety and Health Review Commission.

ACTION: Notice; correction.

SUMMARY: This document corrects the phone number listed in a Sunshine Act Notice published in the Federal Register of October 7, 2019.

FOR FURTHER INFORMATION CONTACT: Sarah Stewart, Deputy General Counsel, Office of the General Counsel, Federal Mine Safety and Health Review Commission, at (202) 434-9935.

SUPPLEMENTARY INFORMATION:

Correction

In Sunshine Act Notice FR Doc. 2019-22005, on page 53440 in the issue of October 7, 2019, in the second column, the phone number listed under the heading “Phone Number for Listening to Meeting” 1-(866) 867-4769 is corrected to read “1-(866) 236-7472”.

Dated: October 10, 2019.
Sarah L. Stewart,
Deputy General Counsel, Federal Mine Safety and Health Review Commission.

[FR Doc. 2019-22584 Filed 10-10-19; 4:15 pm]

BILLING CODE 6735-01-P